ENVIRONMENTAL PROTECTION AGENCY

40 CFR Part 70

[EPA-R09-OAR-2007-0090; FRL-8303-4]

Clean Air Act Proposed Full Approval of Revisions to the State of Hawaii Operating Permit Program

AGENCY: Environmental Protection Agency (EPA).

ACTION: Proposed rule.

SUMMARY: EPA is proposing to approve revisions to the State of Hawaii's (“Hawaii” or “State”) operating permit program that amend Hawaii's regulations for insignificant emissions units (IEUs). In an April 1, 2002 Notice of Deficiency published in the Federal Register, EPA notified Hawaii of EPA's finding that Hawaii's provisions for IEUs did not meet minimum Federal requirements. Hawaii has revised its program to correct the deficiency identified in the Notice of Deficiency and this action proposes full approval of those revisions.

DATES: Written comments must be received by May 21, 2007.

ADDRESSES: Submit comments, identified by docket number EPA-R09-OAR-2007-0090, by one of the following methods:

1. Federal eRulemaking Portal: www.regulations.gov. Follow the online instructions.

2. E-mail: Rios.Gerardo@epa.gov.

3. Mail or deliver to: Gerardo Rios, Permits Office Chief, Air Division (AIR-3), EPA Region IX, 75 Hawthorne Street, San Francisco, California 94105.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Robert Baker, EPA Region IX, at (415) 972-3979, (Baker.Robert@epa.gov).

SUPPLEMENTARY INFORMATION: This proposal addresses revisions to the following local rule, 11-60.1-82(e), in State of Hawaii operating permits program. In the Rules and Regulations section of this Federal Register, we are approving the revision in direct final action without prior proposal because we believe the revisions made to the program to resolve the Notice of Deficiency are not controversial. If we receive adverse comments, however, we will publish a timely withdrawal of the direct final rule and address the comments in a subsequent action based on this proposed rule. Please note that if we receive adverse comment on an amendment, paragraph, or section of this rule, we may adopt as final those provisions of the revision that are not the subject of the adverse comment.

We do not plan to open a second comment period, so anyone interested in commenting should do so at this time. If we do not receive adverse comments, no further activity is planned. For further information, please see the direct final action.

Dated: April 4, 2007.
Jane Diamond,
Acting Regional Administrator, Region IX.

[FR Doc. E7-7549 Filed 4-19-07; 8:45 am]

BILLING CODE 6560-50-P